DEPARTMENT OF COMMERCE

Census Bureau

Generic Clearance for Master Address File (MAF) and Topologically Integrated Geographic Encoding and Referencing (TIGER) Update Activities

ACTION: Proposed collection; comment request.

SUMMARY: The Department of Commerce, as part of its continuing effort to reduce paperwork and respondent burden, invites the general public and other federal agencies to take this opportunity to comment on proposed and/or continuing information collections, as required by the Paperwork Reduction Act of 1995, Pub. L. 104-13 (44 U.S.C. 3506(c)(2)(A)).

DATES: Written comments must be submitted on or before February 6, 2004.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument(s) and instructions should be directed to Bob Tomassoni, Bureau of the Census, SFC2, Room 1308A, Washington, DC 20233. Phone Number 301-763-2036 (or via the Internet at Robert.G.Tomassoni@Census.Gov).

SUPPLEMENTARY INFORMATION:

I. Abstract

The Census Bureau presently operates a generic clearance covering activities involving respondent burden associated with updating our Master Address File (MAF) and Topologically Integrated Geographic Encoding and Referencing (TIGER) system. (The MAF is the Census Bureau's address database and TIGER is the geographic database.) We now propose to extend that generic clearance to cover update activities we will undertake during the next three fiscal years.

Under the terms of the generic clearance, we plan to submit a request for OMB approval that will describe all planned activities for the entire period; we will not submit a clearance package for each updating activity. We will send a letter to OMB at least two weeks before the planned start of each activity that gives more exact details, examples of forms, and final estimates of respondent burden. We also will file a year-end summary with OMB after the close of each fiscal year giving results of each activity conducted. This generic clearance enables OMB to review our overall strategy for MAF and TIGER updating in advance, instead of reviewing each activity in isolation shortly before the planned start. The Census Bureau used the MAF for mailing and delivering questionnaires to households during Census 2000. The MAF is also used as a sampling frame for our demographic current surveys. In the past, the Census Bureau built a new address list for each decennial census. The MAF we built for Census 2000 is meant to be kept current, thereby, eliminating the need to build a completely new address list for future censuses and surveys. The TIGER is a geographic system that maps the entire country in Census Blocks with applicable address range or living quarter location information. Linking MAF and TIGER allows us to assign each address to the appropriate Census Block, produce maps as needed and publish results at the appropriate level of geographic detail. The following are descriptions of each activity we plan to conduct under the clearance for the next three fiscal years.

1. Record Linkage Follow-Up (Address Duplication Check) Evaluation

In an effort to compile the most accurate Master Address File (MAF), the Census Bureau is planning the Record Linkage Follow-Up Address Duplication Check Operation to evaluate three different unduplication methods, one duplicate address linking software currently used by our Geography Division (GEO) and possibly two probabilistic matching software programs used by our Planning, Research, and Evaluation Division (PRED).

This operation will address the Census Coverage Improvement objective, which attempts to minimize coverage errors and to gain insight into the causes of housing unit duplication through externally focused, probes and edits and examination of internal processing approaches.

The Record Linkage Follow-Up Address Duplication Check will be conducted in the field to confirm probable housing unit duplicates identified by the unduplication criteria established for the probabilistic record matching and linking software, and not already reconciled from other 2004 Census Test field activities. This 2004 Census Test operation addresses the following question: “Can we reduce duplication at the time of the initial Master Address File (MAF) extract and during address list updating from Address Canvassing and from Update/Leave by using improved address record linkage methods?”

The major objective of the Record Linkage Follow-Up Address Duplication Check operation is to determine the accuracy and future use of address unduplication prior to census operations. Verifiers will perform an Address Duplication Check on housing unit duplicates identified by probabilistic linkage.

The 2004 Census Test Record Linkage Follow-Up Address Duplication Check operation will be conducted in the NW Queens, NY test site and in Colquitt, Tift, and Thomas counties in Georgia and will be managed out of Local Census Offices. The operation will take place between August 16, 2004 and September 17, 2004 and will consist of a maximum workload of 10,800 addresses.

The universe of linked addresses will come from output generated by the Auto Match and Big Match software and from GEO providing a file that includes the results of their duplicate confidence indicator run on the MAF for the 2004 Test Sites.

The workload of linked addresses, called clusters, in the Record Linkage Follow-Up Address Duplicate Check operation will be a merged sample of the output from the three duplicate linking programs mentioned above.

A sample of clusters will be included in the Address Duplicate Check. Large clusters, clusters with different Zip Codes, and clusters where two or more addresses are exactly the same, will be included in the Headquarters (HQ) fieldwork. The Headquarters (HQ) fieldwork will consist of no more than 6 people from Census HQ, traveling to the 2004 Census Test sites to review and fieldwork 300 clusters.

Verifiers will locate each address in the cluster on the ground and enter codes based on observation first. Then they will attempt to make contact with the respondent or qualified proxy to confirm the addresses existence for each address shown on the cluster-listing page. Verifiers will enter action codes based on respondent information. The verifiers will try to locate the other addresses shown in the cluster, to verify existence or nonexistence in an effort to confirm duplication of addresses within the cluster. Verifiers will not edit, add, or delete any addresses.

The estimated time per response is 2 minutes. The most burdensome case scenario will be 10,800 addresses in no more than 5,300 address clusters. All of the fieldwork is expected to take place in FY 2004.

2. Address Canvassing

An Address Canvassing operation will take place as part of the 2006 Census Test. The operation will take place during the spring of 2005. The operation will be a standard address canvassing operation where census “listers” will canvass specified blocks and conduct brief interviews to verify or update address information against address information on the Census Bureau's address lists and maps. Lister's will enter action codes for every address based on what they found out during the visit. Lister's will also visit addresses not listed on our address lists and add them. They will record address information and action codes on address listing pages.

Sites for the 2006 Census Test will be selected in 2004. Prior to the selection, there is no available information regarding estimated number of living quarters or respondent burden for the Address Canvassing operation.

3. TIGER Enhancement Database (TED)

The TIGER Enhancement Database (TED) is an inventory of state, local, tribal and commercial geographic data critical to the modernization of the Census Bureau's MAF/TIGER database. More specifically, the TED is an interactive Oracle database containing metadata about the geographic data necessary for coordinate correction and feature update in TIGER. Such metadata include, but are not limited to: Contact information, data accuracy, currency, format, and medium.

TED is designed to be maintained and updated indefinitely to support MAF/TIGER Enhancements Program efforts throughout the decade. Metadata for population of the database will be collected on an ongoing basis from state/local/tribal governments, as well as, industry organizations and clearinghouses, and commercial suppliers.

Determining which governments and commercial sources exist and gathering metadata about what they contain, will require contact with individuals and business entities. Once the inventory of available resources has been completed for all 3,232 counties, the Census Bureau and its contractor will begin to acquire the source materials described in the inventory. These source materials may include satellite imagery, aerial photography, Global Positioning System (GPS) files, Geographic Information System (GIS) files of transportation, hydrography, and other feature layers, address lists, and other graphic and tabular data that will provide updates to the MAF/TIGER database.

In addition to the above, there may be other operations and/or evaluations that could be added in the next three years to help the Census Bureau prepare for Census 2010 and evaluate the quality of work done during various census tests. Any other operations and/or evaluations would be similar to those above and would fall under the clearance as MAF/TIGER updating activities.

II. Method of Collection

The primary method of data collection for most operations/evaluations will be personal interview by Census Listers, Verifiers or Enumerators using the operation/evaluation's listing form. In some cases, the interview could be by telephone callback if no one was home on the initial visit. For TED, the primary method of method of data collection will be telephone contact. See part I for details.

III. Data

OMB Number: 0607-0809.

Form Number: The form numbers for activities have not yet been assigned.

Type of Review: Regular submission.

Affected Public: Individuals or households.

Estimated Number of Respondents: Varies by operation, see chart below for available estimates.

Estimated Time Per Response: Varies by operation, see chart below for available estimates.

Estimated Total Annual Burden Hours: FY04 360.

Estimated Total Annual Cost: The only cost to respondents is that of their time to respond.

Respondent's Obligation: Mandatory.

Legal Authority: Title 13, United States Code, Sections 141 and 193.

Activity | FY 2004 respondents | Average hours per response | Responses per respondent | FY 2004 burden hours
Record Linkage Follow-Up Evaluation | 10,800 | .033 | 1 | 360
Totals | 10,800 |  |  | 360

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 2, 2003.
Madeleine Clayton,
Management Analyst, Office of the Chief Information Officer.

[FR Doc. 03-30323 Filed 12-5-03; 8:45 am]

BILLING CODE 3510-07-P